DEPARTMENT OF THE INTERIOR

Bureau of Land Management

National Petroleum Reserve—Alaska Oil and Gas Lease Sale 2002

AGENCY: Bureau of Land Management, Interior.

ACTION: Notice of National Petroleum Reserve—Alaska Oil and Gas Lease Sale 2002.

National Petroleum Reserve—Alaska (NPR-A); Notice of Sale and Notice of Availability of the Detailed Statement of Sale for Oil and Gas Lease Sale 2002 in the NPR-A.

The Bureau of Land Management, Alaska State Office will be holding an oil and gas lease sale bid opening for the Northeast Study Area of the NPR-A at 9:00 a.m. on Monday, June 3, 2002, at the Wilda Marston Theatre in the Z. J. Loussac Public Library, 3600 Denali Street, Anchorage, Alaska. With the exception of one new tract, Tract 2002-H-157, all tracts were previously offered in Sale 991 on May 5, 1999, but received no bids.

All bids must submitted by sealed bid in accordance with the provisions identified in the Detailed Statement of Sale and received at the Bureau of Land Management, Alaska State Office, 222 W. 7th, #13, Anchorage, Alaska 99513-7599 no later than 3:45 p.m., Friday, May 31, 2002.

The Detailed Statement of Sale for Sale 2002 may be obtained by written request to the Public Information Center, Bureau of Land Management, Alaska State Office, 222 W. 7th, #13, Anchorage, Alaska 99513-7599 or by telephone at (907) 271-5960. It will include, among other things, a description of the areas to be offered for lease, the lease terms, conditions and special stipulations and how and where to submit bids. It will be available to the public immediately after publication of this Notice.

Dated: April 5, 2002.
Gene R. Terland,
Acting State Director, Alaska State Office, Bureau of Land Management.

[FR Doc. 02-10388 Filed 4-26-02; 8:45 am]

BILLING CODE 4310-JA-P